DEPARTMENT OF ENERGY

Federal Energy Regulatory Commission

Combined Notice of Filings #2

Take notice that the Commission received the following electric rate filings:

Take notice that the Commission received the following exempt wholesale generator filings:

Docket Numbers: EG16-83-000.

Applicants: Boulder Solar Power, LLC.

Description: Notice of Self-Certification of Exempt Wholesale Generator Status of Boulder Solar Power, LLC.

Filed Date: 4/7/16.

Accession Number: 20160407-5178.

Comments Due: 5 p.m. ET 4/28/16.

Take notice that the Commission received the following electric rate filings:

Docket Numbers: ER16-757-001.

Applicants: PJM Interconnection, L.L.C.

Description: Tariff Amendment: Errata to ER16-757-000 re: Merchant Network Upgrades to be effective 5/1/2016.

Filed Date: 4/6/16.

Accession Number: 20160406-5134.

Comments Due: 5 p.m. ET 4/27/16.

Docket Numbers: ER16-1360-000.

Applicants: Midcontinent Independent System Operator, Inc., Consumers Energy Company.

Description: § 205(d) Rate Filing: 2016-04-07_SA 2913 WPSC-Consumers FCA (J392) to be effective 4/8/2016.

Filed Date: 4/7/16.

Accession Number: 20160407-5115.

Comments Due: 5 p.m. ET 4/28/16.

Docket Numbers: ER16-1361-000.

Applicants: Commonwealth Edison Company, PJM Interconnection, L.L.C.

Description: § 205(d) Rate Filing: ComEd submits Transmission Upgrade Agreement No. 4406 among ComEd and ATC to be effective 3/7/2016.

Filed Date: 4/7/16.

Accession Number: 20160407-5120.

Comments Due: 5 p.m. ET 4/28/16.

Docket Numbers: ER16-1362-000.

Applicants: Southern California Edison Company.

Description: § 205(d) Rate Filing: First Amended LGIA Rosamond West Solar Project to be effective 4/8/2016.

Filed Date: 4/7/16.

Accession Number: 20160407-5123.

Comments Due: 5 p.m. ET 4/28/16.

Docket Numbers: ER16-1363-000.

Applicants: Arizona Public Service Company.

Description: Compliance filing: Proposed Market-Based Rate tariff revisions of Arizona Public Service Company to be effective 9/30/2016.

Filed Date: 4/7/16.

Accession Number: 20160407-5131.

Comments Due: 5 p.m. ET 4/28/16.

Docket Numbers: ER16-1364-000.

Applicants: Copper Mountain Solar 2, LLC.

Description: § 205(d) Rate Filing: Copper Mountain Solar 2, LLC Joint Use Agreement for Gen-tie Polies to be effective 4/8/2016.

Filed Date: 4/7/16.

Accession Number: 20160407-5141.

Comments Due: 5 p.m. ET 4/28/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 7, 2016.
Nathaniel J. Davis, Sr.,
Deputy Secretary.

[FR Doc. 2016-08600 Filed 4-13-16; 8:45 am]

BILLING CODE 6717-01-P